OFFICE OF THE UNITED STATES TRADE REPRESENTATIVE

Generalized System of Preferences (GSP): Notice of the Results of the 2008 Annual Product Reviews

AGENCY: Office of the United States Trade Representative.

ACTION: Notice.

SUMMARY: This notice announces: (1) The disposition of the product petitions accepted for review in the 2008 GSP Annual Product Review; (2) the results of the 2008 Competitive Need Limitations (CNL) Waiver Review; (3) the results of the 2008 Competitive Need Limitation Waiver Revocation Review; (4) the addition of a product to the list of products that were not produced in the United States on January 1, 1995; (5) the results of the 2008 De Minimis Waiver and Redesignation Reviews; and (6) the continuation of the 2008 Country Practices Review.

FOR FURTHER INFORMATION CONTACT: Tameka Cooper, GSP Program, Office of the United States Trade Representative, 1724 F Street, NW., Room F-601, Washington, DC 20508. The telephone number is (202) 395-6971, the fax number is (202) 395-2961, and the e-mail address is Tameka_Cooper@ustr.eop.gov.

SUPPLEMENTARY INFORMATION: The GSP program provides for the duty-free importation of designated articles when imported from beneficiary developing countries. The GSP program is authorized by Title V of the Trade Act of 1974 (19 U.S.C. 2461 et seq.), as amended (the “Trade Act”), and is implemented in accordance with Executive Order 11888 of November 24, 1975, as modified by subsequent Executive Orders and Presidential Proclamations.

In the 2008 Annual Product Review, the Trade Policy Staff Committee reviewed petitions to change product coverage of the GSP. The results of the 2008 GSP Annual Review, comprising nine lists, are available for public viewing at http://www.regulations.gov in docket USTR-2008-0045. The listed results of the 2008 GSP Annual Review are also available at: http://www.ustr.gov/trade-topics/trade-development/preference-programs/generalized-system-preference-gsp/current-reviews.

The disposition of the petitions considered in the 2008 GSP Annual Review is described in: List I (Decisions on Petitions to Add Products to the List of Eligible Products for the Generalized System of Preferences); List II (Decisions on Petitions to Remove Duty-Free Status from a Beneficiary Developing Country for a Product on the List of Eligible Articles for the Generalized System of Preferences); and List III (Decisions on Petitions to Grant a Waiver to the Competitive Need Limitations).

Certain articles for which a waiver of the application of Section 503(c)(2)(A) of the 1974 Act was issued at least five years ago, but which are revoked pursuant to Section 503(d)(5) are listed in List IV (Decisions on Competitive Need Limit Waiver Revocations).

Certain articles for which it has been determined that a like or directly competitive product was not produced in the United States on January 1, 1995, for the purposes of section 503(c)(2)(E), are listed in List V (Addition to List of Products “Not Produced in the United States”, Pursuant to Section 503(c)(2)(E)).

In the 2008 Product Review, the Trade Policy Staff Committee evaluated the 2008 value of U.S. imports of each GSP-eligible article to determine whether an article from a GSP beneficiary developing country exceeded the GSP CNLs. De minimis waivers were granted to certain articles that exceeded the 50-percent import-share CNL, but for which the aggregate value of all U.S. imports of that article was below the 2008 de minimis level of $19 million. List VI (Decisions on Products Eligible for De Minimis Waivers) provides the list of the articles and the associated countries granted de minimis waivers. No eligible products were redesignated to GSP eligibility. List VII (Decisions on Products Eligible for GSP Redesignation) provides the list of the articles and the associated countries reviewed for redesignation.

Articles that exceeded one of the GSP CNLs in 2008, and that are newly excluded from GSP eligibility when imported from a specific beneficiary country, are listed in List VIII (Products Newly Subject to CNL Exclusion).

The Trade Policy Staff Committee has determined to continue the review of GSP eligibility of certain beneficiary developing countries. The beneficiaries that will continue to be under review for GSP eligibility include: Lebanon, Russia and Uzbekistan regarding intellectual property rights, and Bangladesh, Niger, the Philippines and Uzbekistan regarding worker rights. The disposition of petitions (see List IX, Petitions for Review of Country Practices) considered in the 2008 Country Practices Review and a decision whether to accept petitions submitted concerning Iraq and Sri Lanka will be announced in a later Federal Register notice.

Marideth J. Sandler,
Executive Director, GSP Program; Chairman, GSP Subcommittee.

[FR Doc. E9-16083 Filed 7-8-09; 8:45 am]

BILLING CODE 3190-W9-P